DEPARTMENT OF THE INTERIOR

National Park Service

[N6722; NPS-WASO-NAGPRA-NPS0041463; PPWOCRADN0-PCU00RP14.R50000]

Notice of Inventory Completion: Yale Peabody Museum, Yale University, New Haven, CT

AGENCY: National Park Service, Interior.

ACTION: Notice.

SUMMARY: In accordance with the Native American Graves Protection and Repatriation Act (NAGPRA), the Yale Peabody Museum has completed an inventory of human remains and associated funerary objects and has determined that there is a cultural affiliation between the human remains and associated funerary objects and Indian Tribes in this notice.

DATES: Repatriation of the human remains and associated funerary objects in this notice may occur on or after January 20, 2026.

ADDRESSES: Send written requests for repatriation of the human remains and associated funerary objects in this notice to Erika Edwards, Yale Peabody Museum, P.O. Box 208118, New Haven, CT 06520-8118, email erika.edwards@yale.edu.

SUPPLEMENTARY INFORMATION: This notice is published as part of the National Park Service's administrative responsibilities under NAGPRA. The determinations in this notice are the sole responsibility of the Yale Peabody Museum, and additional information on the determinations in this notice, including the results of consultation, can be found in its inventory or related records. The National Park Service is not responsible for the determinations in this notice.

Abstract of Information Available

Human remains representing, at least, five individuals have been identified. The six associated funerary objects are one lot of fauna, one lot of modified stone, one lot of unmodified stone, one of ceramics, one lot of modified shell, and one of wood. In 1869, Reverend Edward Osborne (E.O.) Dunning removed collections from Brakebill Mound (40Kn55) in Knox County, Tennessee, near the junction of the French Broad and Holston Rivers. The collection was purchased and received by the Yale Peabody Museum in early 1870.

Human remains representing, at least, 22 individuals have been identified. The six associated funerary objects are one lot of fauna, one lot of modified stone, one lot of unmodified stone, one lot of ceramics, one of modified shell, one lot of modified shell and bone (fauna). In early 1870, Dunning removed collections from McBee Mound (40Je10) and its immediate vicinity in Jefferson County, Tennessee. The collection was purchased and received by the Yale Peabody Museum in April 1870.

Human remains representing, at least, 13 individuals have been identified. The five associated funerary objects are one lot of fauna, one lot of modified stone, one lot of ceramics, one of modified shell, one of unmodified shell. Dunning removed collections from Lick Creek Mound (40Gn2) in Greene County, Tennessee, circa 1871-1872. The collections were purchased and received by the Yale Peabody Museum in March 1872. Dunning's initial descriptions of Lick Creek Mound, situated at the confluence of the Nolichucky River and Lick Creek, incorrectly referred to it as Lisles Mound.

Human remains representing, at least, four individuals have been identified. No associated funerary objects are present. Following Dunning's death in March 1874, a portion of his remaining archaeological collections, excavated between 1869-1872, were donated to the Yale Peabody Museum by his wife. At least two individuals were attributed to an unknown county in Tennessee, and at least two individuals were attributed to an unknown county in Tennessee or North Carolina.

Cultural Affiliation

Based on the information available and the results of consultation, cultural affiliation is clearly identified by the information available about the human remains and associated funerary objects described in this notice.

Determinations

The Yale Peabody Museum has determined that:

• The human remains described in this notice represent the physical remains of 44 individuals of Native American ancestry.

• The 17 objects described in this notice are reasonably believed to have been placed intentionally with or near individual human remains at the time of death or later as part of the death rite or ceremony.

• There is a connection between the human remains and associated funerary objects described in this notice and the Cherokee Nation; Eastern Band of Cherokee Indians; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the Yale Peabody Museum must determine the most appropriate requestor prior to repatriation. Requests for joint repatriation of the human remains and associated funerary objects are considered a single request and not competing requests. The Yale Peabody Museum is responsible for sending a copy of this notice to the Indian Tribes identified in this notice and any other consulting parties.

Authority: Native American Graves Protection and Repatriation Act, 25 U.S.C. 3003, and the implementing regulations, 43 CFR 10.10.

Dated: November 25, 2025.
Melanie O'Brien,
Manager, National NAGPRA Program.

[FR Doc. 2025-23165 Filed 12-17-25; 8:45 am]

BILLING CODE 4312-52-P